DEPARTMENT OF COMMERCE

National Oceanic and Atmospheric Administration

RIN 0648-XF217

Fisheries Off West Coast States and in the Western Pacific; Pacific Coast Groundfish Fishery; Application for an Exempted Fishing Permit

AGENCY: National Marine Fisheries Service (NMFS), National Oceanic and Atmospheric Administration (NOAA), Commerce.

ACTION: Notice; request for comments.

SUMMARY: NMFS announces the receipt of an exempted fishing permit (EFP) application for 2017 and 2018 that would continue work done in 2015 and 2016, and is considering issuance of EFPs for vessels participating in the EFP fishery. The EFPs would be effective no earlier than April 3, 2017, and would expire no later than December 31, 2018, but could be terminated earlier under terms and conditions of the EFPs and other applicable laws.

DATES: Comments must be received no later than 5 p.m., local time on April 3, 2017.

ADDRESSES: You may submit comments, identified by 0648-XF217, by any one of the following methods:

• Email: benjamin.mann@noaa.gov.

• Fax: 206-526-6736, Attn: Benjamin Mann.

• Mail: Barry A. Thom, Regional Administrator, West Coast Region, NMFS, 7600 Sand Point Way NE., Seattle, WA 98115-0070, Attn: Benjamin Mann.

FOR FURTHER INFORMATION CONTACT: Benjamin Mann (West Coast Region, NMFS), phone: 206-526-6117, fax: 206-526-6736.

SUPPLEMENTARY INFORMATION: This action is authorized by the Pacific Coast Groundfish Fishery Management Plan (FMP) and the Magnuson-Stevens Fishery Conservation and Management Act provisions at 50 CFR 600.745, which states that EFPs may be used to authorize fishing activities that would otherwise be prohibited. At the June 2016 Pacific Fishery Management Council (Council) meeting in Tacoma, WA, the Council considered an EFP application from the San Francisco Community Fishing Association and Dan Platt. An opportunity for public testimony was provided during the Council meeting. For more details on this EFP application and to view a copy of the application, see the Council's Web site at www.pcouncil.org and browse the November 2016 Briefing Book. The Council recommended that NMFS consider issuing the following EFP, and that this EFP be issued for 2 years. The 2-year duration is intended to coincide with the 2017-2018 biennial harvest specifications and management measures process. Therefore, to reduce the administrative burden of issuing annual EFPs during the 2-year management cycle, NMFS is considering issuing the EFP described below for a 2-year period. The EFP issued for this 2-year period would expire no later than December 31, 2018, but could be terminated earlier under terms and conditions of the EFP and other applicable laws.

Commercial Yellowtail EFP

The San Francisco Community Fishing Association and Dan Platt submitted an application to continue their 2016-2017 EFP work for two more years. The primary purpose of the EFP is to test a commercial hook and line gear to target underutilized yellowtail rockfish, while keeping bycatch of overfished species low. The current application includes changes from the previous EFP including: (1) Extension of the southern boundary from Point San Pedro (37°35′ N. lat.) to Point Conception (34°27′ N. lat.); (2) addition of 3 vessels to the EFP (7 total); and (3) federal observer coverage requirement of 30 percent (trips not observed would be self-reported). The EFPs are necessary to allow activities that are otherwise prohibited by Federal regulations.

After review of the final proposal, NMFS has concerns with the proposed reduced observer coverage. NMFS has historically relied on 100 percent observer coverage to collect and maintain data critical to evaluating the feasibility of new fisheries management strategies. NMFS has never issued a groundfish EFP without 100 percent coverage. Further, the proposed extension of the southern boundary would extend the fishery into waters where no baseline data exists; highlighting the need to obtain data for management purposes that has historically be collected by observers. The Northwest Fisheries Science Center has indicated that they may be able to provide for some additional observer coverage, working with the applicants. NMFS is considering, but has not yet approved, using some electronic monitoring in lieu of observers. NMFS is inviting comments on these issues.

Authority: 16 U.S.C. 1801 et seq., 16 U.S.C. 773 et seq., and 16 U.S.C. 7001 et seq.

Dated: March 14, 2017.
Karen H. Abrams,
Acting Deputy Director, Office of Sustainable Fisheries, National Marine Fisheries Service.

[FR Doc. 2017-05351 Filed 3-16-17; 8:45 am]

BILLING CODE 3510-22-P